DEPARTMENT OF TRANSPORTATION

Surface Transportation Board

[STB Ex Parte No. 677 (Sub-No. 1)]

Common Carrier Obligation of Railroads—Transportation of Hazardous Materials

AGENCY: Surface Transportation Board.

ACTION: Notice of Rescheduled Hearing.

SUMMARY: The Surface Transportation Board (Board) hereby gives notice of the rescheduling of its hearing regarding the common carrier obligation of railroads with respect to the transportation of hazardous materials.

DATES: The public hearing will take place on Tuesday, July 22, 2008 at 9 a.m.. Any person wishing to speak at the hearing should file with the Board a written notice of intent to participate, and should identify the party, the proposed speaker, and the time requested, as soon as possible but no later than July 10, 2008. Each speaker should also file with the Board his/her written testimony in that same document. Written submissions by interested persons who do not wish to appear at the hearing will also be due by July 10, 2008.

FOR FURTHER INFORMATION CONTACT: Timothy Strafford 202-245-0356. [Assistance for the hearing impaired is available through the Federal Information Relay Service (FIRS) at 1-800-877-8339.]

SUPPLEMENTARY INFORMATION: By a decision served on June 4, 2008, the Board announced that it would hold a hearing at 9 a.m. on Wednesday, July 16, 2008, at its headquarters in Washington, DC, for the purpose of examining issues related to the common carrier obligation of railroads with respect to the transportation of hazardous materials. Persons wishing to speak at the hearing were directed to notify the Board in writing and submit their written testimony no later than July 2, 2008. Written testimony from other interested parties was also due by July 2, 2008.

In order to address witness availability concerns, the Board served a decision on June 19, 2008, announcing that it would grant a short extension and hold the hearing on Tuesday, July 22, 2008. The hearing will begin at 9 a.m. in the 1st floor hearing room at the Board's headquarters at 395 E Street, SW., in Washington, DC, and will continue, with short breaks if necessary, until every person scheduled to speak has been heard. In light of the Independence Day holiday, the Board announced by decision served June 23, 2008 that it would extend the due date for notices of intent to participate and written testimony by hearing participants, as well as other interested persons who do not wish to appear at the hearing, until July 10, 2008.

Board Releases and Live Video Streaming Available Via the Internet. Decisions and notices of the Board are available on the Board's Web site at “http://www.stb.dot.gov.” This hearing will be available on the Board's Web site by live video streaming. To access the hearing, click on the “Live Video” link under “Information Center” at the left side of the home page beginning at 9 a.m. on July 22, 2008.

This action will not significantly affect either the quality of the human environment or the conservation of energy resources.

Dated: June 23, 2008.
By the Board, Anne K. Quinlan, Acting Secretary.
Anne K. Quinlan,
Acting Secretary.

[FR Doc. E8-14574 Filed 6-26-08; 8:45 am]

BILLING CODE 4915-01-P